DEPARTMENT OF COMMERCE

Foreign-Trade Zones Board

[B-1-2025]

Foreign-Trade Zone (FTZ) 265, Notification of Proposed Production Activity; Unimacts Company; (Steel Products); Conroe, Texas

The City of Conroe, Texas, grantee of FTZ 265 has submitted a notification of proposed production activity to the FTZ Board (the Board) on behalf of the Unimacts Company for the company's facility in Conroe, Texas within FTZ 265. The notification conforming to the requirements of the Board's regulations (15 CFR 400.22) was received on December 19, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include flat-rolled steel (electrolytically plated or coated with zinc) of various widths and thicknesses, flat-rolled steel (zinc-coated/plated) of various widths and thicknesses, and flat-rolled steel (coated or plated with various materials) (duty-free).

The proposed foreign-status materials/components include flat-rolled steel (electrolytically plated or coated with zinc) of various widths and thicknesses, flat-rolled steel (zinc coated/plated) of various widths and thicknesses, flat-rolled steel (coated or plated with various materials), wide flat-rolled steel (electrolytically plated or coated with zinc), wide flat-rolled steel (electrolytically plated or coated with aluminum-zinc alloys), and wide flat-rolled steel (plated or coated with zinc) of varying thicknesses (duty-free). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41). The request indicates that flat-rolled steel (electrolytically plated or coated with zinc) of various widths and thicknesses, flat-rolled steel (zinc coated/plated) of various widths and thicknesses, flat-rolled steel (coated or plated with various materials), wide flat-rolled steel (electrolytically plated or coated with zinc), wide flat-rolled steel (electrolytically plated or coated with aluminum-zinc alloys), and wide flat-rolled steel (plated or coated with zinc) of varying thicknesses are subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in PF status (19 CFR 146.41).

Public comment is invited from interested parties. Submissions shall be addressed to the Board's Executive Secretary and sent to: ftz@trade.gov. The closing period for their receipt is February 18, 2025.

A copy of the notification will be available for public inspection in the “Online FTZ Information System” section of the Board's website.

For further information, contact Kolade Osho at Kolade.Osho@trade.gov.

Dated: January 2, 2025.
Elizabeth Whiteman,
Executive Secretary.

[FR Doc. 2025-00188 Filed 1-7-25; 8:45 am]

BILLING CODE 3510-DS-P